DEPARTMENT OF LABOR

Office of the Secretary

Submission for OMB Review; Comment Request

June 25, 2002.

The Department of Labor (DOL) has submitted the following public information collection requests (ICRs) to the Office of Management and Budget (OMB) for review and approval in accordance with the Paperwork Reduction Act of 1995 (Pub. L. 104-13, 44 U.S.C. Chapter 35). A copy of each individual ICR, with applicable supporting documentation, may be obtained by calling the Department of Labor. To obtain documentation contact Darrin King at (202) 693-4129 or E-Mail to King-Daring@dol.gov.

Comments should be sent to Office of Information and Regulatory Affairs, Attn: OMB Desk Officer for OSHA, Office of Management and Budget, Room 10235, Washington, DC 20503 (202-395-7316), within 30 days from the date of this publication in the Federal Register.

The OMB is particularly interested in comments which:

* Evaluate whether the proposed collection of information is necessary for the proper performance of the functions of the agency, including whether the information will have practical utility;

* Evaluate the accuracy of the agency's estimate of the burden of the proposed collection of information, including the validity of the methodology and assumptions used;

* Enhance the quality, utility, and clarity of the information to be collected; and

* Minimize the burden of the collection of information on those who are to respond, including through the use of appropriate automated, electronic, mechanical, or other technological collection techniques or other forms of information technology, e.g., permitting electronic submission of responses.

Agency: Occupational Safety and Health Administration (OSHA).

Type of Review: Extension of a currently approved collection.

Title: Slings—29 CFR 1910.184.

OMB Number: 1218-0223.

Affected Public: Business or other for-profit; Not-for-profit institutions; Federal Government; and State, Local or Tribal Government.

Frequency: On occasion and Annually.

Type of Response: Recordkeeping and Third-party disclosure.

Number of Respondents: 65,000.

Requirement | Annual responses | Average response time (hours) | Annual burden hours
Alloy Steel Chain Slings—1910.184(e):
Permanently affixed durable identification—1910.184(e)(1) | 98 | 0.50 | 49
Periodic inspection—1910.184(e)(3)(i) | 68,250 | 0.25 | 17,063
Cetificate of proof testing—1910.184(e)(4) | 24,375 | 0.05 | 1,219
Wire Rope Slings—1910.184(f) | 48,750 | 0.05 | 2,438
Metal Mesh Slings—1910.184(g):
Permanently affixed durable marking—1910.184(g)(1) | 13 | 0.50 | 7
Written records for repaired slings—1910.184(g)(8)(ii) | 1,300 | 0.05 | 65
Synthetic Web Slings—1910.184(i):
Marked or coded for rated capacities—1910.184(i)(1) | 52 | 0.50 | 26
Certificate of proof testings—1910.184(i)(8)ii) | 13,000 | 0.05 | 650
Grand Totals: | 155,838 |  | 21,517

Total Annualized Capital/Startup Costs: $0.

Total Annual Costs (operating/maintaining systems or purchasing services): $0.

Description: The Standard specifies several collection-of-information (paperwork) requirements, depending on the type of sling. The purpose of each of these requirements is to prevent employees from using defective or deteriorated slings, thereby reducing their risk of death or serious injury caused by sling failure during material handling.

Paragraph (e) of the Standard covers alloy steel chain slings. Paragraph (e)(1) requires that alloy steel chain slings have permanently affixed durable identification stating size, grade, rated capacity, and reach. The information, supplied by the manufacturers, is typically marked on a metal tag and affixed to the sling.

Paragraph (e)(3)(i) requires the employer to make a thorough periodic inspection of alloy steel chain slings in use on a regular basis, but at least once a year. Paragraph (e)(3)(ii) requires the employer to make and maintain a record of the most recent month in which each alloy steel chain sling was thoroughly inspected, and make this record available for examination.

Paragraph (e)(4) requires the employer to retain certificates of proof testing. Employers must ensure that before use, each new, repaired, or reconditioned alloy steel chain sling, including all welded components in the sling assembly, has been proof tested by the sling manufacturer, or an equivalent entity. The certificates of proof testing must be retained and made available for examination.

Paragraph (f) of the Standard covers wire rope slings. Paragraph (f)(4)(ii) requires that all welded end attachments of wire rope slings be proof tested by the manufacturer at twice their rated capacity prior to initial use, and that the employer retain a certificate of the proof test and make it available for examination.

Paragraph (g) of the Standard covers metal mesh slings. Paragraph (g)(1) requires each metal mesh sling to have a durable marking permanently affixed that states the rated capacity for vertical basket hitch and choker hitch loadings.

Paragraph (g)(8)(ii) requires that once repaired, each metal mesh sling be permanently marked or tagged, or a written record maintained to indicate the date and nature of the repairs and the person or organization that performed the repairs. Records of the repairs shall be made available for examination.

Paragraph (i) of the Standard covers synthetic web slings. Paragraph (i)(1) requires that synthetic web slings be marked or coded to show the rated capacities for each type of hitch and type of synthetic web material.

Paragraph (i)(8)(i) prohibits the use of repaired synthetic web slings until they have been proof tested by the manufacturer or equivalent entity. Paragraph (i)(8)(ii) requires the employer to retain a certificate of the proof test and make it available for examination.

The information on the identification tags, markings or codings assist the employer in determining whether the sling can be used for the lifting task. The sling inspections enable early detection of faulty slings. The inspection and repair records provide employers with information about when the last inspection was made and about the nature of the repairs made. This information provides some assurance about the condition of the slings. These records also provide the most efficient means for an OSHA compliance officer to determine that an employer is complying with the Standard. Proof-testing certificates give employers, employees, and OSHA compliance officers assurance that slings are safe to use. The certificates also provide the compliance officers with an efficient means to assess employer compliance with the Standard.

Agency: Occupational Safety and Health Administration (OSHA).

Type of Review: Extension of a currently approved collection.

Title: Standard on Manlifts—29 CFR 1910.68(e)(3).

OMB Number: 1218-0226.

Affected Public: Business or other for-profit; Not-for-profit institutions; Federal Government; and State, Local or Tribal Government.

Frequency: Monthly.

Type of Response: Recordkeeping and Third-party disclosure.

Number of Respondents: 3,000.

Number of Annual Responses: 36,000.

Annual Burden Hours: 41,400.

Total Annualized Capital/Startup Costs: $0.

Total Annual Costs (operating/maintaining systems or purchasing services): $0.

Description: 29 CFR 1910.68(e) requires that each manlift be inspected at least once every 30 days. Paragraph (e)(3) requires a certification record of the inspection must be made upon completion of the inspection. The record must contain the date of the inspection, the signature of the person who performed the inspection, and the serial number or other identifier of the inspected manlift. Employers are to maintain the certification record and make them available to OSHA compliance officers. This record provides assurance to employers, employees, and compliance officers that manlifts were inspected as required by the Standard. The inspections are made to keep equipment in safe operating condition, thereby preventing manlift failure while carrying employees to elevated worksites. These records also provide the most efficient means for the compliance officers to determine that an employer is complying with the Standard.

Agency: Occupational Safety and health Administration (ISHA).

Type of Review: Revision of a currently approved collection.

Title: Consultation Agreements.

OMB Number: 1218-0110.

Affected Public: Business or other for-profit; Federal Government; and State, Local or Tribal Government.

Frequency: On occasion, Quarterly, biennially, and Annually.

Type of Response: Recordkeeping, Reporting, and Third-party disclosure.

Number of Respondents: 27,000.

Requirement | Annual responses | Average response time (hours) | Annual burden hours
Burden Hours for State Consultation Projects:
Safety and health Program Assessment Worksheet—1908.6(e)(3):
Comprehensive Assistance | 2,700 | 0.50 | 1,350
Safety and health Achievement Recognition Program (SHARP) | 400 | 0.50 | 200
Inspection Deferral | 200 | 0.50 | 100
Other visits | 23,700 | 0.17 | 3,950
Referrals for Enforcement—1908.6(f)(1) and (4) | 10 | 0.050 | 5
List of Serious Hazardous and Correction Due Dates—1908.6(g) | 27,000 | 0.08 | 2,250
Compile and Transmit Statical Information—1908.9(c) | 1,680 | 0.50 | 840
Prepare and Submit Cooperative Agreement—1908.10(c) | 48 | 40.00 | 1,920
Sub-total | 55,738 |  | 10,615
Burden Hours for employers:
Notifying the consultation project manager in writing when serious hazardous are correct—1908.6 | 27,000 | 0.25 | 6,750
Informing OSHA or State Compliance Officer that a Consultation Visit is in Progress—1908.7 | 1,350 | 0.10 | 135
Post notice of participation in Inspection Deferral and SHARP—1908.7(a)(4) | 600 | 0.05 | 30
Sub-Total: | 28,950 |  | 6,915
Grant Total: | 84,688 |  | 17,530

Total Annualized Capital/Startup cost: $0.

Total Annual Cost (Operating/Maintaining System or Purchasing System or Purchasing Services): $0.

Description: 29 CFR 1908 requires occupatiuonal safety and health consultation programs to collect, disclose, and report certain information. The purpose of these regulations is to establish and support cooperative agreements under which employers subject to the Occupational Safety and health Act of 1970 (and amendments) may consult with State personnel with respect to Occupational Safety and health Regulations as well as other voluntary compliance efforts.

Ira L. Mills,
Departmental Clearance Officer.

[FR Doc. 02-16807 Filed 7-3-02; 8:45 am]

BILLING CODE 4510-26-M